DEPARTMENT OF HOMELAND SECURITY

Coast Guard

[Docket Number USCG-2020-0042]

Consolidation of Redundant Coast Guard Boat Stations

AGENCY: Coast Guard, DHS.

ACTION: Request for comments.

SUMMARY: We are requesting your comments on the planned consolidation of redundant Coast Guard boat stations. Many stations were established at a time when boats lacked engines and were powered by oars and paddles. With modern boat operating speeds and improved direction finding technology, many calls for Coast Guard assistance can be responded to by multiple units significantly faster than when these boat stations were first established. The combination of significantly improved response times, along with an overall reduction in rescue calls due to boating safety improvements throughout the nation, has resulted in a number of boat stations becoming redundant. This consolidation will result in a more robust response system by increasing staffing levels and capacity at select nearby boat stations. Such a consolidation creates synergy and more opportunities for boat operators to properly train instead of missing training opportunities while standing ready to respond to calls that do not come.

DATES: Written comments and related material may be submitted to the Coast Guard personnel specified. Your comments and related material must reach the Coast Guard on or before April 14, 2020.

ADDRESSES: You may submit comments identified by docket number USCG-2020-0042 using the Federal rulemaking portal at https://www.regulations.gov. See the “Public Participation and Request for Comments” portion of the SUPPLEMENTARY INFORMATION section for further instructions on submitting comments.

FOR FURTHER INFORMATION CONTACT: For information about this document, please call or email Todd Aikins, Coast Guard Office of Boat Forces, 202-372-2463, todd.r.aikins@uscg.mil.

SUPPLEMENTARY INFORMATION:

I. Table of Abbreviations

CFR Code of Federal Regulations

DHS Department of Homeland Security

II. Background and Purpose

In October of 2017, the Government Accountability Office issued report GAO-18-9, titled “Actions Needed to Close Stations Identified as Overlapping and Unnecessarily Duplicative.” This GAO report recommended the consolidation of eighteen boat stations. Due to environmental and operational factors, the Coast Guard is not considering all eighteen boat stations identified in the GAO report for consolidation. Instead, we anticipate consolidating five stations, with implementation notionally scheduled for fiscal year 2021. These stations have been identified because there are other units nearby capable of responding to cases in these areas, and because these five stations respond to a low number of cases. We do not anticipate any adverse effect on Coast Guard response capability. We expect an improvement to the proficiency of boat operators as well as a less complicated response system.

III. Discussion

Station Oxford and Stations-Small Fishers Island, Shark River, Roosevelt Inlet, and Salem have been identified for consolidation with neighboring stations.

IV. Public Participation and Request for Comments

We encourage you to submit comments through the Federal portal at https://www.regulations.gov. If your material cannot be submitted using https://www.regulations.gov, contact the person in the FOR FURTHER INFORMATION CONTACT section of this document for alternate instructions. In your submission, please include the docket number for this notice and provide a reason for each suggestion or recommendation.

We accept anonymous comments. All comments received will be posted without change to https://www.regulations.gov and will include any personal information you have provided. For more about privacy and submissions in response to this document, see DHS's Correspondence System of Records notice (84 FR 48645, September 26, 2018).

Documents mentioned in this notice as being available in the docket, and all public comments, will be in our online docket at https://www.regulations.gov and can be viewed by following that website's instructions.

Dated: February 11, 2020.
Matthew W. Sibley,
Rear Admiral, U.S. Coast Guard, Assistant Commandant for Capability.

[FR Doc. 2020-03079 Filed 2-13-20; 8:45 am]

BILLING CODE 9110-04-P